FEDERAL ELECTION COMMISSION

Sunshine Act Notices; Meeting

Date and Time: Thursday, December 18, 2002, at 10 a.m.

Place: 999 E Street, NW., Washington, DC (Ninth Floor).

Status: This meeting will be open to the public.

Items To Be Discussed: Correction and approval of minutes.

Election of officers.

Interim rules and explanation and justification for BCRA's Millionaire's Amendment.

Administrative matters.

Person to Contact for Information: Mr. Ron Harris, Press Officer. Telephone: (202) 694-1220.

Mary W. Dove,
Secretary of the Commission.

[FR Doc. 02-31520 Filed 12-10-02; 2:47 pm]

BILLING CODE 6715-01-M